DEPARTMENT OF COMMERCE

Foreign-Trade Zones Board

(Docket 37-2005)

Foreign-Trade Zone 123 Denver, Colorado, Application For Subzone, the Eastman Kodak Company, (X-ray film, Color Paper, Digital Media, Inkjet Paper, and Entertainment Imaging), Windsor, Colorado

An application has been submitted to the Foreign-Trade Zones Board (the Board) by the City and County of Denver, Colorado, grantee of FTZ 123, requesting special-purpose subzone status with manufacturing authority (X-ray film, color paper, digital media, inkjet paper, and entertainment imaging) for the facilities of the Eastman Kodak Company (Kodak), located in Windsor, Colorado. The application was submitted pursuant to the Foreign-Trade Zones Act, as amended (19 U.S.C. 81a-81u), and the regulations of the Board (15 CFR part 400). It was formally filed on August 1, 2005.

The facilities for which subzone status is proposed are on one site (800 acres total; 3.2 million sq. ft. of enclosed space) located at 9952 Eastman Park Drive in Windsor, Colorado. The facilities (approximately 1650 full- and part-time employees) would be used initially under FTZ procedures for manufacturing, processing, warehousing, and distributing printer cartridges and thermal media, which have duty rates ranging from duty-free to 3.7% ad valorem. For Kodak's current manufacturing, foreign-sourced materials account for approximately 50 percent of finished-product value. The application lists thermal media (HTSUS category 3702.44) and film base (3920.62) as the primary material inputs which may be sourced from abroad initially, with duty rates ranging from 3.7% to 4.2%.

The application also requests authority to include a broad range of inputs and final products that the plant may produce under FTZ procedures in the future within the categories of X-ray film, color paper, digital media, inkjet paper, and entertainment imaging (i.e., motion picture film, consumer film and related chemicals). (New major activity in these inputs/products could require review by the FTZ Board.) General HTSUS categories of inputs include: 2620, 2710, 2803, 2804, 2806, 2811, 2812, 2815, 2825, 2827, 2832, 2833, 2836, 2838, 2842, 2843, 2846, 2851, 2901, 2902, 2903, 2904, 2906, 2907, 2908, 2909, 2911, 2914, 2915, 2916, 2917, 2918, 2920, 2921, 2922, 2924, 2925, 2926, 2928, 2930, 2931, 2933, 2934, 2935, 2942, 3004, 3402, 3503, 3507, 3701, 3702, 3703, 3704, 3705, 3706, 3707, 3824, 3901, 3903, 3905, 3906, 3907, 3910, 3912, 3917, 3919, 3920, 3921, 3923, 3924, 3926, 4008, 4009, 4010, 4016, 4017, 4202 (4202.12.6000, 4202.12.8030, 4202.91.0090, 4202.92.9026, 4202.92.9036, 4202.92.9060), 4203, 4415, 4504, 4703, 4802, 4805, 4808, 4811, 4818, 4819, 4820, 4821, 4823, 4901, 4902, 4905, 4906, 4908, 4909, 4910, 4911, 5906, 6804, 6909, 7003, 7004, 7005, 7006, 7007, 7008, 7013, 7014, 7020, 7106, 7108, 7112, 7412, 7419, 7606, 7607, 7609, 7616, 8101, 8108, 8302, 8306, 8308, 8309, 8405, 8412, 8413, 8414, 8415, 8418, 8419, 8420, 8421, 8422, 8423, 8428, 8431, 8439, 8441, 8443, 8466, 8467, 8470, 8471, 8472, 8473, 8476, 8477, 8479, 8480, 8481, 8485, 8501, 8503, 8504, 8505, 8506, 8507, 8511, 8512, 8513, 8514, 8515, 8516, 8518, 8521, 8523, 8524, 8525, 8528, 8529, 8531, 8532, 8533, 8534, 8535, 8536, 8537, 8538, 8539, 8540, 8541, 8542, 8543, 8544, 8545, 8546, 8547, 9001, 9002, 9005, 9006, 9007, 9008, 9009, 9010, 9011, 9013, 9015, 9016, 9017, 9018, 9022, 9023, 9024, 9025, 9026, 9027, 9028, 9029, 9030, 9031, 9032, 9033, 9106, 9402, 9405, 9612, and 9705. The duty rates on these products range from duty-free to 38%. Final products that may be produced from the inputs listed above include these general HTSUS categories: 2710, 2803, 2804, 2806, 2811, 2812, 2815, 2825, 2827, 2832, 2833, 2836, 2838, 2842, 2843, 2846, 2851, 2901, 2902, 2903, 2904, 2906, 2907, 2908, 2909, 2911, 2914, 2915, 2916, 2917, 2918, 2920, 2921, 2922, 2924, 2925, 2926, 2928, 2930, 2931, 2933, 2934, 2935, 2942, 3004, 3402, 3503, 3507, 3701, 3702, 3703, 3704, 3705, 3706, 3707, 3824, 3901, 3903, 3905, 3906, 3907, 3910, 3912, 3917, 3919, 3920, 3921, 3923, 3924, 3926, 4008, 4009, 4010, 4016, 4017, 4202 (4202.12.6000, 4202.12.8030, 4202.91.0090, 4202.92.9026, 4202.92.9036, 4202.92.9060), 4203, 4415, 4504, 4703, 4802, 4805, 4808, 4811, 4818, 4819, 4820, 4821, 4823, 4901, 4902, 4905, 4906, 4908, 4909, 4910, 4911, 5906, 6804, 6909, 7003, 7004, 7005, 7006, 7007, 7008, 7013, 7014, 7020, 7106, 7108, 7112, 7412, 7419, 7606, 7607, 7609, 7616, 8101, 8108, 8302, 8306, 8308, 8309, 8405, 8412, 8413, 8414, 8415, 8418, 8419, 8420, 8421, 8422, 8423, 8428, 8431, 8439, 8441, 8443, 8466, 8467, 8470, 8471, 8472, 8473, 8476, 8477, 8479, 8480, 8481, 8485, 8501, 8503, 8504, 8505, 8506, 8507, 8511, 8512, 8513, 8514, 8515, 8516, 8518, 8521, 8523, 8524, 8525, 8528, 8529, 8531, 8532, 8533, 8534, 8535, 8536, 8537, 8538, 8539, 8540, 8541, 8542, 8543, 8544, 8545, 8546, 8547, 9001, 9002, 9005, 9006, 9007, 9008, 9009, 9010, 9011, 9013, 9015, 9016, 9017, 9018, 9022, 9023, 9024, 9025, 9026, 9027, 9028, 9029, 9030, 9031, 9032, 9033, 9106, 9402, 9405, 9612, and 9705. The duty rates on these products range from duty-free to 38%.

Zone procedures would exempt Kodak from Customs duty payments on foreign components used in export production. On its domestic sales, Kodak would be able to choose the lower duty rate that applies to the finished products for foreign components, when applicable. Kodak would also be able to avoid duty on foreign inputs which become scrap/waste, estimated at five percent of FTZ-related savings. Kodak may also realize logistical/procedural and other benefits from subzone status. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building--Suite 4100W, 1099 14th St. NW., Washington, DC 20005; or

2. Submissions Via the U.S. Postal Service: Foreign-Trade-Zones Board, U.S. Department of Commerce, FCB--Suite 4100W, 1401 Constitution Ave. NW., Washington, DC 20230.

The closing period for their receipt is October 11, 2005. Rebuttal comments in response to material submitted during the foregoing period may be submitted during the subsequent 15-day period to October 24, 2005.

A copy of the application and accompanying exhibits will be available for public inspection at the Office of the Foreign-Trade Zones Board's Executive Secretary at address Number 1 listed above and at the Denver U.S. Export Assistance Center, 1625 Broadway, Suite 680, Denver, CO 80202.

Dated: August 2, 2005.
Dennis Puccinelli,
Executive Secretary.

[FR Doc. 05-15823 Filed 8-9-05; 8:45 am]

BILLING CODE 3510-DS-S